COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: January 19, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Deletions

On 11/15/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

7510-00-NIB-1783—Portfolio Pad Holder, with Pad, Custom Logo & Color, 9′ x 12″

Mandatory Source of Supply: Alphapointe, Kansas City, MO

Contracting Activity: GSA/FAS Admin SVCS Acquisition BR(2, New York, NY

NSN(s)—Product Name(s):

2540-00-T27-8865—Chock Block

2540-00-T27-9043—Chock Block

Mandatory Source of Supply: NewView Oklahoma, Inc., Oklahoma City, OK

Contracting Activity: DLA Support Services—DSS, Fort Belvoir, VA

NSN(s)—Product Name(s):

7210-01-245-4393—Cover, Mattress

Mandatory Source of Supply: Winston-Salem Industries for the Blind, Inc., Winston-Salem, NC

Contracting Activity: DLA Troop Support, Philadelphia, Pa

Services

Service Type: Administrative Services

Mandatory for: Robert C. Byrd Federal Building: United States Courthouse, Charleston, WV

Mandatory Source of Supply: Goodwill Industries of Kanawha Valley, Charleston, WV

Contracting Activity: General Services Administration, FPDS Agency Coordinator

Service Type: Dining Facility Attendant Services

Mandatory for: 29th Engineering Battalion: Building 503B, Fort Shafter, HI

Mandatory for: 65th Engineering Battalion: Building 1492, Schofield Barracks, HI

Mandatory Source of Supply: Opportunities and Resources, Inc., Wahiawa, HI

Contracting Activity: Dept. of the Army, W40M RHCO-Atlantic USAHCA

Service Type: Janitorial/Custodial

Mandatory for: U.S. Federal Building, Courthouse and Post Office: Main and Poplar Streets, Greenville, MS

Contracting Activity: General Services Administration, FPDS Agency Coordinator

Patricia Briscoe,
Deputy Director, Business Operations (Pricing and Information Management).

[FR Doc. 2019-27433 Filed 12-19-19; 8:45 am]

BILLING CODE 6353-01-P